DEPARTMENT OF COMMERCE

National Oceanic and Atmospheric Administration

[RTID 0648-XE701]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Summer Flounder, Scup, and Black Sea Bass Advisory Panel and Bluefish Advisory Panel will hold a public meeting, jointly with the Atlantic States Marine Fisheries Commission's (Commission) Summer Flounder, Scup and Black Sea Bass and Bluefish Advisory Panels.

DATES: The meeting will be held on Tuesday, March 25, 2025, from 3 p.m. to 5 p.m., ET. For agenda details, see SUPPLEMENTARY INFORMATION.

ADDRESSES: The meeting will be held via webinar. Webinar connection, agenda items, and any additional information will be available at www.mafmc.org/council-events.

Council address: Mid-Atlantic Fishery Management Council, 800 N State Street, Suite 201, Dover, DE 19901; telephone: (302) 674-2331 or on their website at www.mafmc.org.

FOR FURTHER INFORMATION CONTACT: Christopher M. Moore, Ph.D., Executive Director, Mid-Atlantic Fishery Management Council, telephone: (302) 526-5255.

SUPPLEMENTARY INFORMATION: The purpose of this meeting is for the Advisory Panels to discuss the proposed Recreational Sector Separation and Data Collection Amendment to the Summer Flounder, Scup, and Black Sea Bass and Bluefish Fishery Management Plans (FMPs). The purpose of the planned amendment is to consider options for managing for-hire recreational fisheries separately from other recreational fishing modes (referred to as sector separation), as well as options related to the collection and use of recreational data, such as private angler reporting and enhanced for-hire vessel trip reporting requirements. The Council and Commission are conducting scoping for this action in late February through mid-March. Advisor feedback as well as the scoping comments will help inform the Council and Commission when discussing the scope of the amendment and next steps during their joint April 2025 meeting.

The Public Information/Scoping Document is available on the action webpage at: https://www.mafmc.org/actions/recreational-sector-separation-and-data-collection-amendment. This document provides a broad overview of the issues identified for consideration in the amendment, management approaches that may be considered, and a series of questions to guide public comment. The Advisory Panels will receive an overview of the issues described in the document and provide comments and recommendations to the Council and Commission.

Special Accommodations

The meeting is physically accessible to people with disabilities. Requests for sign language interpretation or other auxiliary aids should be directed to Shelley Spedden at the Council Office, (302) 526-5251, at least 5 days prior to the meeting date.

Authority: 16 U.S.C. 1801 et seq.

Dated: March 3, 2025.
Rey Israel Marquez,
Acting Deputy Director, Office of Sustainable Fisheries, National Marine Fisheries Service.

[FR Doc. 2025-03641 Filed 3-6-25; 8:45 am]

BILLING CODE 3510-22-P